DEPARTMENT OF TRANSPORTATION

Federal Aviation Administration

14 CFR Part 71

[Airspace Docket No. 99-AAL-24]

Proposed Establishment of Class E Airspace; Yukon-Kuskokwim Delta, Alaska

AGENCY: Federal Aviation Administration (FAA), DOT.

ACTION: Notice of proposed rulemaking.

SUMMARY: This action proposes to establish Class E airspace over the Yukon-Kuskokwim (Y-K) Delta area in southwest Alaska in support of the Capstone Research and Development (R&D) project. Specifically, this action proposes to establish controlled airspace extending from 1,200 feet above ground level (AGL) upwards to the base of the existing Class E airspace of 14,500 feet above mean sea level (MSL) within an area bounded by lat. 58° 25′ 36″ N long. 158° 00′ W, to lat. 57° 50′ N long. 158° 00′ W, to lat. 57° 50′ N long. 156° 00′ W, to lat. 64° 00′ N long. 156° 00′ W, to lat. 64° 00′ N long. 161° 41′ 24″ W, then via the 12 nautical mile limit to the point of beginning. The intended effect of this proposal is to provide adequate controlled airspace for commercial air carriers conducting Instrument Flight Rules (IFR) operations over southwest Alaska and validate new operational procedures and equipment in the IFR environment.

DATES: Comments must be received on or before April 10, 2000.

ADDRESSES: Send comments on the proposal in triplicate to: Manager, Operations Branch, AAL-530, Docket No. 99-AAL-24, Federal Aviation Administration, 222 West 7th Avenue, Box 14, Anchorage, AK 99513-7587.

The official docket may be examined in the Office of the Regional Counsel for the Alaskan Region at the same address.

An informal docket may also be examined during normal business hours in the Office of the Manager, Operations Branch, Air Traffic Division, at the address shown above and on the Internet at Alaskan Region's homepage at http://www.alaska.faa.gov/at or at address http://162.58.28.41/at.

FOR FURTHER INFORMATION CONTACT: Bob Durand, Operations Branch, AAL-531, Federal Aviation Administration, 222 West 7th Avenue, Box 14, Anchorage, AK 99513-7587; telephone number (907) 271-5898; fax: (907) 271-2850; email: Bob.Durand@faa.gov.

SUPPLEMENTARY INFORMATION:

Background

In a February 12, 1997, report to President Clinton on aviation safety and security, Chairman Vice President Al Gore reported that satellite-based navigation and positioning is a core element of our National Airspace System (NAS) modernization plans, and is critical to achieving a seamless, efficient global aviation system. Over the period of the past few years, the FAA has been working with commercial, military, and general aviation (GA) users to develop a global satellite-based navigation system independent of conventional ground navigation aids. Alaska and Hawaii were selected to pioneer this program through a R&D demonstration program called Capstone.

The Alaskan Region's “Capstone Program” is an accelerated effort to improve aviation safety and efficiency through installation of government-furnished, GPS-based avionics and data link communications suites in most commercial aircraft serving the Yukon-Kuskokwim Delta area. Up to 200 aircraft will be equipped. Compatible ground systems, equipment, and services will also be provided. The name “Capstone” is derived from the program's effect of drawing and holding together concepts and recommendations contained in reports from the Radio Telecommunications Conference of America (RTCA), the National Transportation Safety Board (NTSB), the Mitre Corporation's Center for Advanced Aviation System Development (CAASD), and Alaskan aviation industry representatives. In addition to the avionics suites, Capstone will deploy a ground infrastructure for weather observation, data link communications, surveillance, and Flight Information Services (FIS) to improve safety and enable eventual implementation of new procedures. A successful Capstone demonstration will help validate these new procedures.

Under the FAA's “Safe Flight 21 Program,” some Capstone-equipped aircraft and the Capstone ground system infrastructure will be used beginning in January 2000 to validate three of the nine high priority Free Flight Operational Enhancements requested by the RTCA. Validation of other operational enhancements will be undertaken in future years. The first three enhancements to begin validation in Alaska are:

• Flight Information Services (FIS)

• Cost Effective, Controlled Flight Into Terrain (CFIT) Avoidance

• Enhanced See and Avoid

Test procedures, data collection, and analysis associated with the validations will be developed and implemented under the FAA's Safe Flight 21 Program administered by the Office of Communication, Navigation, and Surveillance Systems, AND-1.

Under Capstone, most of the commercial aircraft based in the test area will be equipped, on a voluntary basis, with government-furnished avionics. Certain other commercial and government aircraft regularly operating in the test area will also be equipped. Services provided through the avionics suite will improve the pilot's flight capabilities and situational awareness. The sample size will ensure that safety improvements and operational efficiencies are demonstrated in a substantial, statistical manner with the rest of Alaska serving as the test control area. Aircraft selected for the Capstone Program will receive:

• An IFR-certified GPS navigation receiver

• Automatic Dependent Surveillance-Broadcast (ADS-B) Transmitter/Receiver

• A moving map display with Traffic Information Service-Broadcast (TIS-B) traffic and terrain advisory services

• FIS providing weather maps, special use airspace status, wind shear alerts, NOTAMs, and PIREPs

• A multi-function color display

A data link network will be installed within existing FAA and Joint-use facilities at up to twelve (12) locations in the test area and connected via existing communications systems to FAA air traffic control facilities, service providers, and aircraft operator bases. To facilitate collection of test data, a common design will be used for Capstone as was used in the Cargo Airline Association (CAA) ADS-B demonstration in the Ohio Valley. Aircraft position reports will be made available to operators for flight following purposes. A ground broadcast server and a gateway processor will be installed at the Anchorage Air Route Traffic Control Center (ARTCC) to receive ADS-B aircraft position reports and data link messages from each remote site and interface them with the existing Micro Enroute Automated Radar Tracking System (Micro-EARTS). The Micro-EARTS and related subsystems will be programmed to integrate the ADS-B targets on one or more air traffic controller displays with radar tgargets. TIS-B will be implemented to enable the pilot of a Capstone-equipped aircraft to see both ADS-B and radar targets on the multi-function display.

Under the Capstone Program, the FAA will develop first-time, GPS-based, non-precision instrument approach to one or more runways at ten remote village airports. These airports were jointly recommended by the Alaska DOT/PF and the Alaska Air Carriers Association as the highest priority locations within the Capstone demonstration area for an instrument approach procedure. They are: Holy Cross, Kalskag, Kipnuk, Koliganek, Egegik, Mountain Village, Platinum, Scammon Bay, St. Michael, and Russian Mission. These airports have been GPS-surveyed for preparation for non-precision GPS instrument approach procedures. To conduct instrument approaches under FAR Part 121 or 135, weather reporting is essential. With budgetary limitations, these same airports are slated to receive automated weather reporting equipment during the Capstone program. Detailed information on the Capstone R&D program can be found on the Internet at Alaskan Region's homepage at http://www.alaska.faa.gov/capstone/.

The Capstone Program will enable delivery of improved weather products (text and graphics) to the pilot and test the GPS and data link technology as a “proof of concept” for the operational enhancements requested by RTCA. The program will also include training for pilots, operators, safety inspectors, air traffic control specialists, and technicians. The University of Alaska's Aviation Complex at Merrill Field will be used for many of these activities. The University will also be contracted to conduct an independent evaluation of system safety improvements and to document user benefits derived.

The purpose of this proposal is to create controlled airspace and infrastructure for IFR operations within the Yukon-Kushkokwim Delta area where uncontrolled airspace currently exists. This controlled airspace is needed to validate new operational procedures and equipment in the IFR environment. Additionally, this action will enhance flight safety, reduce the potential for midair collisions, improve operational efficiencies, and better manage air traffic operations.

Establishment of Class E airspace in this proposal will have an impact on pilots' flight visibility and cloud avoidance requirements when flying under Visual Flight Rules (VFR), during the day above 1,200 feet AGL and below 10,000 feet MSL. The flight visibility requirement will increase to three (3) statute miles. VFR weather minimums are shown in the following table extracted from 14 CFR 91.155 Basic VFR weather minimums:

Basic VFR Weather Minimums
| Flight visibility | Distance from clouds
Class G (uncontrolled):
1,200 feet or less AGL, Day | 1 statute mile | Clear of clouds.
1,200 feet or less AGL, Night | 3 statute miles | 500 feet below. 1,000 feet above. 2,000 feet horizontal.
1,200 feet or more and less than 10,000 feet MSL, Day | 1 statute mile | 500 feet below. 1,000 feet above. 2,000 feet horizontal.
1,200 feet or more and less than 10,000 feet MSL, Night | 3 statute miles | 500 feet below. 1,000 feet above. 2,000 feet horizontal.
More than 1,200 feet AGL and at or above 10,000 feet MSL | 5 statute miles | 1,000 feet below. 1,000 feet above. 1 statute mile horizontal.
Class E (controlled):
Less than 10,000 MSL | 3 statute miles | 500 feet below. 1,000 feet above. 2,000 feet horizontal.
At or above than 10,000 MSL | 5 statute miles | 1,000 feet below. 1,000 feet above. 1 statute mile horizontal.

On February 25, 1999, the FAA initiated an environmental review, 99-AAL-024-NR, seeking public comment on the proposal to establish Class E airspace to encompass the Capstone Demonstration Area. In the environmental review solicitation, the FAA stated the desire to design and establish Class E airspace that will facilitate the development of the Capstone Demonstration and the transition to the future NAS Architecture with minimum impact on the environment. Significant environmental issues were not identified during the scoping process. Thus, this activity falls within a category of actions normally categorically excluded from documentation in an Environmental Assessment (EA) or Environmental Impact Statement (EIS).

On April 7, 1999, the FAA conducted a Preliminary Environmental Review. This review was conducted in accordance with policies and procedures in Department of Transportation Order 5610.1C, Procedures for considering Environmental Impacts, Order 1050.1, and is in compliance with the National Environmental Policy Act of 1969 and in accordance with the regulations promulgated by the Council on Environmental Quality, 40 CFR 1500 et seq. Thus, on April 13, 1999, the FAA signed the Categorical Exclusion Declaration. This review enabled the FAA to exclude this proposed action from further environmental documentation according to Order 1050.1, Policies and Procedures for Considering Environmental Impacts.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this notice must submit with those comments a self-addressed, stamped postcard on which the following statement is made: “Comments to Airspace Docket No. 99-AAL-24.” The postcard will be date/time stamped and returned to the commenter. All communications received on or before the specified closing date for comments will be considered before taking action on the proposed rule. The proposal contained in this notice may be changed in light to comments received. All comments submitted will be available for examination in the Operations Branch, Air Traffic Division, Federal Aviation Administration, 222 West 7th Avenue, Box 14, Anchorage, AK, both before and after the closing date for comments. A report summarizing each substantive public contact with FAA personnel concerned with this rulemaking will be filed in the docket.

Availability of NPRM's

An electronic copy of this document may be downloaded, using a modem and suitable communications software, from the FAA regulations section of the Fedworld electronic bulletin board service (telephone: 703-321-3339) or the Federal Register's electronic bulletin board service (telephone: 202-512-1661).

Internet users may reach the Federal Register's web page for access to recently published rulemaking documents at http://www.access.gpo.gov/su_docs/aces140.html.

Any person may obtain a copy of this Notice of Proposed Rulemaking (NPRM) by submitting a request to the Operations Branch, AAL-530, Federal Aviation Administration, 222 West 7th Avenue, Box 14, Anchorage, AK 99513-7587. Communications must identify the notice number of this NPRM. Persons interested in being placed on a mailing list for future NPRM's should contact the individual(s) identified in the FOR FURTHER INFORMATION CONTACT section.

The Proposal

The FAA proposes to amend 14 CFR part 71 (part 71) by establishing Class E airspace within the Yukon-Kushkokwim Delta area in southwest Alaska. The intended effect of this proposal is to (1) provide adequate controlled airspace and infrastructure for commercial air carrier IFR operations and (2) validate new operational procedures and equipment in the IFR environment.

The area would be depicted on aeronautical charts for pilot reference. The coordinates for this airspace docket are based on North American Datum 83. The Class E airspace areas designated as 700/1200 foot transition areas are published in paragraph 6005 of FAA Order 7400.9G, Airspace Designations and Reporting Points, dated September 1, 1999, and effective September 16, 1999, which is incorporated by reference in 14 CFR 71.1. The Class E airspace designations listed in this document would be revised and published subsequently in the Order.

The FAA has determined that these proposed regulations only involve an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9G, Airspace Designations and Reporting Points, dated September 1, 1999, and effective September 16, 1999, is to be amended as follows:

Paragraph 6005 Class E airspace extending upward from 700 feet or more above the surface of the earth.

* * * * *

AAL AK E5 Yukon-Kuskokwim Delta, AK [New]

That airspace extending upward from 1,200 feet above the surface within the area bounded by lat. 58°25′36″ N long. 158°00′ W, to lat. 57°50′ N. long. 158° 00′ W, to lat. 57°50′ N long. 156°00′ W, to lat. 64°00′ N long. 156°00′ W, to lat. 64°00′ N long. 161°41′24″ W, then via the 12 nautical mile limit to the point of beginning.

* * * * *

Issued in Anchorage, AK, on February 9, 2000.
Willis C. Nelson,
Manager, Air Traffic Division, Alaskan Region.

[FR Doc. 00-3699 Filed 2-23-00; 8:45 am]

BILLING CODE 4910-13-M